DEPARTMENT OF COMMERCE

National Oceanic and Atmospheric Administration

[RTID 0648-XA599]

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council (Council) and the Atlantic States Marine Fisheries Commission (Commission) will hold a joint webinar meeting of their Summer Flounder, Scup, and Black Sea Bass Advisory Panels.

DATES: The meeting will be held on Thursday, November 19, 2020, from 4 p.m. to 6 p.m. EST. See SUPPLEMENTARY INFORMATION for more details.

ADDRESSES: The meeting will be held via webinar. Connection information will be posted to http://www.mafmc.org/council-events.

Council address: Mid-Atlantic Fishery Management Council, 800 N State Street, Suite 201, Dover, DE 19901; telephone: (302) 674-2331; website: www.mafmc.org.

FOR FURTHER INFORMATION CONTACT: Christopher M. Moore, Ph.D., Executive Director, Mid-Atlantic Fishery Management Council, telephone: (302) 526-5255.

SUPPLEMENTARY INFORMATION: The Council and the Commission have scheduled a joint meeting of their Summer Flounder, Scup, and Black Sea Bass Advisory Panels to review public comments on the Council's Black Sea Bass Commercial State Allocation Amendment the Commission's Draft Addendum XXXIII and, as well as to provide recommendations for final action on the addendum and amendment. The amendment and draft addendum consider alternative approaches for allocating the coastwide black sea bass commercial quota among the states as well as Council management of state allocations and changes to certain federal regulations regarding quota management.

Additional information on this action is available at: http://www.mafmc.org/actions/bsb-commercial-allocation.

Special Accommodations

The meeting is physically accessible to people with disabilities. Requests for sign language interpretation or other auxiliary aids should be directed to M. Jan Saunders at the Mid-Atlantic Council Office, (302) 526-5251, at least 5 days prior to the meeting date.

Authority: 16 U.S.C.1801 et seq.

Dated: October 26, 2020.
Tracey L. Thompson,
Acting Deputy Director, Office of Sustainable Fisheries, National Marine Fisheries Service.

[FR Doc. 2020-23950 Filed 10-28-20; 8:45 am]

BILLING CODE 3510-22-P